DEPARTMENT OF ENERGY

Energy Information Administration

Agency Information Collection Proposed Extension

AGENCY: U.S. Energy Information Administration (EIA), Department of Energy (DOE).

ACTION: Notice and request for comments.

SUMMARY: EIA invites public comment on the proposed three-year extension, with changes, to the Electric Power & Renewable Electricity Surveys (EPRES) as required under the Paperwork Reduction Act of 1995. EPRES consists of nine surveys, including annual, monthly and one daily survey. These surveys collect data from entities involved in the production, transmission, delivery, and sale of electricity, and in maintaining the reliable operation of the power system. The data collected are the primary source of information on the nation's electric power system. The renewable energy survey collects information on the manufacture, shipment, import, and export of photovoltaic cells and modules, and is the primary national source of information on these topics.

DATES: EIA must receive all comments on this proposed information collection no later than July 22, 2022. If you anticipate any difficulties in submitting your comments by the deadline, contact the person listed in the ADDRESSES section of this notice as soon as possible.

ADDRESSES: Send your comments to Sara Hoff, Office of Energy Production, Conversion & Delivery, U.S. Energy Information Administration, Forrestal Building, U.S. Department of Energy, 1000 Independence Ave. SW, EI-23, Washington, DC 20585. Submission via email to Electricity2023@eia.gov is recommended.

FOR FURTHER INFORMATION CONTACT: Sara Hoff, (202) 586-1242 email: Electricity2023@eia.gov. The forms and instructions are available on EIA's website at https://www.eia.gov/survey/.

SUPPLEMENTARY INFORMATION: Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

This information collection request contains:

(1) OMB No.: 1905-0129.

(2) Information Collection Request Title: Electric Power & Renewable Electricity Surveys.

(3) Type of Request: Three-year extension with changes.

(4) Purpose: EIA's EPRES consists of the following nine surveys:

Form EIA-63B Photovoltaic Module Shipments Report tracks photovoltaic module manufacturing, shipments, technology types, revenue, and related information.

Form EIA-860 Annual Electric Generator Report collects data on existing and planned electric generation plants, and associated equipment including generators, boilers, cooling systems, and environmental control systems. Data are collected from all existing units and from planned units scheduled for initial commercial operation within ten years of the specified reporting period (depending on the type of power plant).

Form EIA-860M Monthly Update to the Annual Electric Generator Report collects data on the status of proposed new generators scheduled to begin commercial operation within the future 12-month period; and existing generators that have proposed modifications that are scheduled for completion within one month. The information is needed to ensure a complete and accurate inventory of the nation's generating fleet, for such purposes as reliability and environmental analysis.

Form EIA-861 Annual Electric Power Industry Report collects annual information on the retail sale, distribution, transmission, and generation of electric energy in the United States and its territories. The data include related activities such as energy efficiency and demand response programs. In combination with Form EIA-861S short form and the monthly Form EIA-861M, this annual survey provides coverage of sales to ultimate customers of electric power and related activities.

Form EIA-861S Annual Electric Power Industry Report (Short Form) collects a limited set of information annually from small companies involved in the retail sale of electricity. A complete set of annual data are collected from large companies on Form EIA-861. The small utilities that currently report on Form EIA-861S are required to complete Form EIA-861 once every eight years to provide updated information for the statistical estimation of uncollected data.

Form EIA-861M Monthly Electric Power Industry Report collects monthly information from a sample of electric utilities, energy service providers, and distribution companies that sell or deliver electric power to end users. Data included on this form includes sales and revenue for end-use sectors—residential, commercial, industrial, and transportation. This survey is the monthly complement to the annual data collection from the universe of respondents that report on Form EIA-861 and Form EIA-861S.

Form EIA-923 Power Plant Operations Report collects information from electric power plants in the United States on electric power generation, energy source consumption, end of reporting period fossil fuel stocks, as well as the quality and cost of fossil fuel receipts.

Form EIA-930 Balancing Authority Operations Report collects a comprehensive set of the current day's system demand data on an hourly basis and the prior day's basic hourly electric system operating data on a daily basis. The data provide a basic measure of the current status of electric systems in the United States and can be used to compare actual system demand with the day-ahead forecast thereby providing a measure of the accuracy of the forecasting used to commit resources. In addition, the data can be used to address smart grid related issues such as integrating wind and solar generation, improving the coordination of natural gas and electric short-term operations and expanding the use of demand response, storage, and electric vehicles in electric systems operations.

(4a) Proposed Changes to Information Collection:

Form EIA-860 Annual Electric Generator Report

EIA proposes to add battery storage questions for proposed applications, including planned design attributes, energy storage capacity, and use case. For energy storage applications that are operationally connected to renewable technologies, EIA proposes to add a question that identifies the related plants and generators.

EIA also proposes to add `bifacial' as a solar photovoltaic technology option.

Form EIA-861 Annual Electric Power Industry Report

EIA proposes to expand questions about battery storage on the net metering and non net-metered distributed generators schedules. EIA is dropping two questions on net metering `storage' and adding six questions pertaining to batteries.

For non net-metered EIA is dropping one `storage' question and adding two questions about batteries. EIA is proposing to add one question about Photovoltaic generators.

Form EIA-861M Monthly Electric Power Industry Report

EIA proposes to expand questions about battery storage on the net metering and non net-metered distributed generators schedules. EIA is dropping two questions on net metering `storage' and adding six questions pertaining to batteries.

For non net-metered EIA is dropping one `storage' question and adding two questions about batteries. EIA is proposing to add one question about Photovoltaic generators.

Form EIA-930 Hourly and Daily Balancing Authority Operations Report

EIA proposes to improve the EIA-930 by adding an information technology security requirement and limiting reported values to integers. EIA also proposes adding demand response and energy storage to the list of options for which net generation is to be reported.

Form EIA-930A Annual Balancing Authority Generator Inventory Report

EIA proposes to improve the ability to reconcile Form EIA-930 data with data reported on Form EIA-860 and Form EIA-923 by collecting the plants and generators used by each balancing authority.

(5) Annual Estimated Number of Respondents: 21,488:

Form EIA-63B has 57 respondents;

Form EIA-860 has 5,716 respondents;

Form EIA-860M has 478 respondents;

Form EIA-861 has 1,735 respondents;

Form EIA-861S has 1,692 respondents;

Form EIA-861M has 650 respondents;

Form EIA-923 has 10,997 respondents;

Form EIA-930 has 63 respondents;

Pretesting methodology consists of 100 respondents.

(6) Annual Estimated Number of Total Responses: 84,881.

(7) Annual Estimated Number of Burden Hours: 198,781 hours.

(8) Annual Estimated Reporting and Recordkeeping Cost Burden: $16,574,360 (198,781 burden hours times $83.38 per hour). EIA estimates that there are no additional costs to respondents associated with the surveys other than the costs associated with the burden hours since the information is maintained during normal course of business.

Statutory Authority: 15 U.S.C. 772(b) and 42 U.S.C. 7101 et seq.

Signed in Washington, DC, on May 18, 2022.
Samson A. Adeshiyan,
Director, Office of Statistical Methods & Research, U.S. Energy Information Administration.

[FR Doc. 2022-11012 Filed 5-20-22; 8:45 am]

BILLING CODE 6450-01-P